DEPARTMENT OF HOMELAND SECURITY

Federal Emergency Management Agency

44 CFR Part 67

[Docket ID FEMA-2008-0020; Internal Agency Docket No. FEMA-B-1074]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 21, 2009.

ADDRESSES: The corresponding preliminary Flood Insurance Rate Map (FIRM) for the proposed BFEs for each community is available for inspection at the community's map repository. The respective addresses are listed in the table below.

You may submit comments, identified by Docket No. FEMA-B-1074, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Boone County, Arkansas, and Incorporated Areas
Crooked Creek | Approximately 200 feet downstream of Highway 65 | None | +1,047 | Unincorporated Areas of Boone County.
| Approximately 1,300 feet upstream of Cloverhill Road | None | +1,070
Dry Jordan Creek | Approximately 0.63 miles upstream of Goblin Drive | None | +1,167 | Unincorporated Areas of Boone County.
| Approximately 0.64 miles upstream of Goblin Drive | None | +1,167
Dry Jordan Tributary | Approximately 560 feet upstream of Highway 65 | None | +1,208 | Unincorporated Areas of Boone County.
| Approximately 720 feet upstream of Highway 65 | None | +1,208
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Boone County
Maps are available for inspection at 100 North Main Street, Harrison, AR 72601.
Johnson County, Arkansas, and Incorporated Areas
Little Willett Branch | Just upstream of State Highway 103 | None | +409 | Unincorporated Areas of Johnson County.
| Approximately 200 feet upstream of State Highway 103 | None | +409
Sprada Creek | Approximately 1,050 feet downstream of Private Road 3477 | None | +391 | Unincorporated Areas of Johnson County.
| Just upstream of County Highway 3520 | None | +411
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Johnson County
Maps are available for inspection at P.O. Box 278, 705 Cline Road, Clarksville, AR 72830.
Del Norte County, California, and Incorporated Areas
Lake Earl | Entire shoreline | None | +13 | Unincorporated Areas of Del Norte County.
Lake Tolowa | Entire shoreline | None | +13 | Unincorporated Areas of Del Norte County.
Overflow Southwest of Smith River | Approximately 2,000 feet east of the intersection of Prigmore Street and Fisher Drive | None | +13 | Unincorporated Areas of Del Norte County.
| Approximately 500 feet west of the intersection of Highway 101 and Reynolds Court | None | +40
Pacific Ocean | From approximately 1,420 feet north of Pyramid Point to approximately 7,870 feet south of the mouth of Lake Tolowa along the shoreline of the Pacific Ocean | None | +14-20 | Unincorporated Areas of Del Norte County.
| Approximately 7,000 feet north of the mouth of Lake Tolowa just inland of the shoreline of the Pacific Ocean | None | #1
| Approximately 2,300 feet north of the mouth of Lake Tolowa just inland of the shoreline of the Pacific Ocean | None | #2
Rowdy Creek | Confluence with Smith River | None | +25 | Unincorporated Areas of Del Norte County.
| Approximately 1,450 feet upstream of Highway 101 | None | +64
Sheetflow Southwest of Smith River | From just downstream of Highway 101 to approximately 500 feet west of Lower Lake Road between Tryon Creek and the Smith River | None | #2 | Unincorporated Areas of Del Norte County.
Smith River | Mouth of the Smith River | None | +15 | Unincorporated Areas of Del Norte County.
| Approximately 2,100 feet upstream of Highway 101 | None | +47
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Del Norte County
Maps are available for inspection at City Hall, Public Works Department, 377 J Street, Crescent City, CA 95531.
Edmonson County, Kentucky, and Incorporated Areas
Alexander Creek (Backwater effects from Green River) | From confluence with Green River to approximately 240 feet upstream of confluence with Alexander Creek Tributary 3 | None | +446 | Unincorporated Areas of Edmonson County.
Bear Creek (Backwater effects from Green River) | From confluence with Green River to approximately 3.8 miles upstream of confluence with Green River | None | +438 | Unincorporated Areas of Edmonson County.
Beaverdam Creek South (Backwater effects from Green River) | From confluence with Green River to approximately 3.4 miles upstream of confluence with Green River | None | +449 | Unincorporated Areas of Edmonson County, City of Brownsville.
Beaverdam Creek Tributary 6 (Backwater effects from Green River) | From confluence with Beaverdam Creek South to approximately 1,400 feet upstream of confluence with Beaverdam Creek South | None | +449 | Unincorporated Areas of Edmonson County, City of Brownsville.
Brier Creek (Backwater effects from Nolin Lake) | From confluence with Nolin Lake to approximately 0.6 mile upstream of confluence with Nolin Lake | None | +560 | Unincorporated Areas of Edmonson County.
Bylew Creek (Backwater effects from Green River) | From confluence with Nolin River to approximately 1.2 miles upstream of confluence with Nolin River | None | +455 | Unincorporated Areas of Edmonson County.
Dog Creek (Backwater effects from Nolin Lake) | From county boundary to approximately 0.6 mile upstream of confluence with Dog Creek Tributary 1 | None | +560 | Unincorporated Areas of Edmonson County.
Green River | At confluence with Bear Creek | None | +438 | Unincorporated Areas of Edmonson County, City of Brownsville.
| At approximately 3.4 miles upstream of confluence with Ugly Creek | None | +480
Green River Tributary 4 (Backwater effects from Green River) | From confluence with Green River to approximately 0.6 mile upstream of confluence with Green River | None | +445 | Unincorporated Areas of Edmonson County.
Honey Creek (Backwater effects from Green River) | From confluence with Green River to approximately 1.6 miles upstream of confluence with Green River | None | +443 | Unincorporated Areas of Edmonson County.
Indian Creek (Backwater effects from Green River) | From confluence with Green River to approximately 0.9 mile upstream of confluence with Green River | None | +452 | Unincorporated Areas of Edmonson County, City of Brownsville.
Laurel Branch (Backwater effects from Green River) | From confluence with Beaverdam Creek South to approximately 0.5 mile upstream of confluence with Beaverdam Creek South | None | +449 | City of Brownsville.
Little Beaverdam Creek (Backwater effects from Green River) | From confluence with Green River to approximately 1 mile upstream of confluence with Sally Branch | None | +442 | Unincorporated Areas of Edmonson County.
Nolin Lake | Entire shoreline of Nolin Lake | None | +560 | Unincorporated Areas of Edmonson County.
Nolin River (Backwater effects from Green River) | From confluence with Green River to approximately 0.8 mile upstream of confluence with Bylew Creek | None | +455 | Unincorporated Areas of Edmonson County.
Sally Branch (Backwater effects from Green River) | From confluence with Little Beaverdam Creek to approximately 0.6 mile upstream of confluence with Little Beaverdam Creek | None | +442 | Unincorporated Areas of Edmonson County.
Ugly Creek (Backwater effects from Green River) | From confluence with Green River to approximately 1.1 miles upstream of confluence with Green River | None | +477 | Unincorporated Areas of Edmonson County.
Wolf Creek (Backwater effects from Nolin Lake) | From confluence with Dog Creek to approximately 1 mile upstream of confluence with Dog Creek | None | +560 | Unincorporated Areas of Edmonson County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Brownsville
Maps are available for inspection at 121 Washington Street, Brownsville, KY 42210.
Unincorporated Areas of Edmonson County
Maps are available for inspection at 108 North Main Street, Brownsville, KY 42210.
Lincoln County, Nevada, and Incorporated Areas
Clover Creek | Approximately 280 feet upstream of confluence with Meadow Valley Wash (Near Caliente) | +4,404 | +4,409 | Unincorporated Areas of Lincoln County, City of Caliente.
| Approximately 2.4 miles upstream of confluence with Meadow Valley Wash (Near Caliente) | None | +4,473
Meadow Valley Wash (Near Caliente) | Approximately 0.73 mile downstream of Union Pacific Railroad | None | #2 | Unincorporated Areas of Lincoln County, City of Caliente.
| Approximately 1,540 feet downstream of Union Pacific Railroad | None | #3
| Approximately 0.73 mile downstream of Union Pacific Railroad | +4,329 | +4,329
| Approximately 674 feet upstream of U.S. Highway 93 | +4,437 | +4,438
Meadow Valley Wash (Near Ursine) | Approximately 1.0 mile downstream of North Eagle Valley Road | None | +5,543 | Unincorporated Areas of Lincoln County.
| Approximately 1,150 feet upstream of North Eagle Valley Road | None | +5,607
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Caliente
Maps are available for inspection at 100 Depot Avenue, Caliente, NV 89008.
Unincorporated Areas of Lincoln County
Maps are available for inspection at the Planning and Zoning Department, 181 Main Street, Suite 107, Pioche, NV 89043.
Clay County, Tennessee, and Incorporated Areas
Cumberland River | Approximately 3.5 miles downstream of Highway 52 | None | +508 | Unincorporated Areas of Clay County, City of Celina.
| Approximately 4.8 miles upstream of Highway 52 | None | +518
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Celina
Maps are available for inspection at City Hall, 143 Cordell Hull Drive, Celina, TN 38551.
Unincorporated Areas of Clay County
Maps are available for inspection at the Clay County Public Library, 116 Guffey Street, Celina, TN 38551.
Atascosa County, Texas, and Incorporated Areas
Rutledge Hollow Creek | Just upstream of Roys Drive | None | +440 | Unincorporated Areas of Atascosa County.
| Approximately 500 feet upstream of Roys Drive | None | +442
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Atascosa County
Maps are available for inspection at Circle Drive 41, Jourdanton, TX 78026.
Washington County, Vermont (All Jurisdictions)
Great Brook No. 1 | At the confluence with Winooski River | +503 | +501 | Town of Middlesex.
| Approximately 140 feet downstream of U.S. Route 2 | +503 | +501
Gunners Brook | At the downstream side of Brook Street | +598 | +596 | City of Barre.
| Approximately 80 feet upstream of Brook Street | None | +616
Mad River | At the confluence with Winooski River | +452 | +454 | Town of Moretown.
| Approximately 950 feet upstream of confluence with Winooski River | +452 | +454
Mirror Lake | Entire shoreline | None | +1,047 | Town of Calais.
North Montpelier Pond | Entire shoreline | None | +708 | Town of Calais, Town of East Montpelier.
Stevens Branch | At the confluence with Winooski River | +547 | +544 | Town of Barre, City of Barre, City of Montpelier, Town of Berlin.
| At county boundary (approximately 2.0 miles upstream of Snowbridge Road) | +741 | +740
Sunny Brook of Winooksi River | At the confluence with Winooski River | +513 | +510 | Town of Middlesex.
| At downstream side of New England Central Railroad | +513 | +510
Thatcher Brook | Approximately 225 feet upstream of Stowe Street | +503 | +502 | Town of Waterbury.
| Approximately 1,100 feet upstream of Stowe Street | +504 | +503
Union Brook | At the confluence with Dog River | +727 | +728 | Village of Northfield.
| Approximately 60 feet upstream of Water Street | +727 | +728
Winooski River | At Chittenden County Boundary (approximately 13,080 feet downstream of Bolton Falls Dam) | +341 | +342 | Town of Middlesex, City of Montpelier, Town of Berlin, Town of Duxbury, Town of East Montpelier, Town of Moretown, Town of Waterbury, Village of Waterbury.
| At downstream side of Green Mountain Power No. 4 Dam | +597 | +595
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Barre
Maps are available for inspection at City Hall, 6 North Main Street, Barre, VT 05641.
City of Montpelier
Maps are available for inspection at the Planning, Zoning, and Community Development Department, City Hall, 39 Main Street, Montpelier, VT 05602.
Town of Barre
Maps are available for inspection at the Town Clerk's Office, 149 Websterville Road, Websterville, VT 05678.
Town of Berlin
Maps are available for inspection at the Town Zoning Office, 108 Shed Road, Berlin, VT 05602.
Town of Calais
Maps are available for inspection at the Town Clerk's Office, 3120 Pekin Brook Road, East Calais, VT 05650.
Town of Duxbury
Maps are available for inspection at the Town Office, 5421 Vermont Route 100, Duxbury, VT 05676.
Town of East Montpelier
Maps are available for inspection at the Town Hall, 40 Kelton Road, East Montpelier, VT 05651.
Town of Middlesex
Maps are available for inspection at the Town Clerk's Office, 5 Church Street, Middlesex, VT 05602.
Town of Moretown
Maps are available for inspection at the Town Clerk's Office, 994 Vermont Route 100B, Moretown, VT 05660.
Town of Waterbury
Maps are available for inspection at the Waterbury Municipal Offices, 51 South Main Street, Waterbury, VT 05676.
Village of Northfield
Maps are available for inspection at the Zoning Office, 51 South Main Street, Northfield, VT 05663.
Village of Waterbury
Maps are available for inspection at the Waterbury Municipal Offices, 51 South Main Street, Waterbury, VT 05676.
Upshur County, West Virginia, and Incorporated Areas
Brushy Fork (Backwater flooding from Buckhannon River) | Approximately at the confluence with Fink Run | None | +1,415 | Unincorporated Areas of Upshur County.
| Approximately 700 feet upstream of County Route 7/1 (Left Branch of Brushy Fork) | None | +1,415
Fink Run (Backwater flooding from Buckhannon River) | Just upstream of Old Weston Road | None | +1,415 | Unincorporated Areas of Upshur County.
| Approximately 2,100 feet upstream of intersection of Old Weston Road and County Route 5/7 (Mudlick Run) | None | +1,415
Unnamed Tributary No. 1 to Fink Run (Backwater flooding from Buckhannon River) | Approximately at the area bounded by US Route 33, Wabash Avenue, and County Route 33/1 | None | +1,415 | Unincorporated Areas of Upshur County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Upshur County
Maps are available for inspection at 38 West Main Street, Buckhannon, WV 26201.

(Catalog of Federal Domestic Assistance No. 97.022, “Flood Insurance.”)

Deborah S. Ingram,
Acting Deputy Assistant Administrator for Mitigation, Mitigation Directorate, Department of Homeland Security, Federal Emergency Management Agency.

[FR Doc. E9-22581 Filed 9-18-09; 8:45 am]

BILLING CODE 9110-12-P